DEPARTMENT OF TRANSPORTATION

Federal Aviation Administration

RTCA Special Committee 172: Future Air-Ground Communications in the Very High Frequency (VHF) Aeronautical Data Band (118-137 MHz)

AGENCY: Federal Aviation Administration (FAA), DOT.

ACTION: Notice of RTCA special committee 172 meeting.

SUMMARY: The FAA is issuing this notice to advise the public of a meeting of RTCA Special Committee 172: Future Air-Ground Communications in the VHF Aeronautical Data Band (118-137 MHz).

DATES: The meeting will be held April 30-May 3, 2002 from 9 a.m. to 5 p.m. each day.

ADDRESSES: The meeting will be held at RTCA, Inc., 1828 L Street, NW., Suite 805, Washington, DC 20036.

FOR FURTHER INFORMATION CONTACT: RTCA Secretariat, 1828 L Street, SW., Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 172 meeting. The agenda will include:

• April 30:

• Opening Plenary Session (Welcome and Introductory Remarks, Review of Agenda, Review Summary of Previous Meeting)

• Review and Final Resolution of VHF Data Link (VDL) Mode 2 Minimum Operational Performance Standard (MOPS) Final Review and Comment (FRAC) comments

• Convene Working Group 3: Review VDL Mode 3 MOPS

• May 1:

• Working Group 3: VDL Mode 3 MOPS work continues

• Working Group 2: Review changes to DO-224A and Change 1

• May 2:

• Plenary Reconvenes (Report and Review Status of Working Groups 2 and 3)

• Review Relevant International Activities (EUROCAE WG 47 status and issues, Others as appropriate)

• Closing Plenary Session (Other Business, Date and Place of Next Meeting)

• Working Groups 2 and 3: Continue as required

• May 3:

• Working Groups 2 and 3: Continue as required

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 9, 2002.
Janice L. Peters,
FAA Special Assistant, RTCA Advisory Committee.

[FR Doc. 02-9409 Filed 4-17-02; 8:45 am]

BILLING CODE 4910-13-M